DEPARTMENT OF STATE

22 CFR Part 41

[Public Notice 4183]

RIN: 1400-AA91

Documentation of Nonimmigrants Under the Immigration and Nationality Act, as Amended

AGENCY: Bureau of Consular Affairs, Department of State.

ACTION: Final rule.

SUMMARY: This rule adopts as final the Department's interim rule creating the nonimmigrant visa classification, “S”, for certain alien informants and witnesses.

EFFECTIVE DATE: November 4, 2002.

FOR FURTHER INFORMATION CONTACT: Pam Chavez, Legislation and Regulations Division, Visa Services, Department of State, Washington, DC 20522-0106, 202-663-1206.

SUPPLEMENTARY INFORMATION:

What Is the Authority for Issuing Nonimmigrant “S” Visas?

On January 24, 1996, the Department added a new section 41.83 at 22 CFR (see 61 FR 1837) to implement section 130003 of the Violent Crime Control and Law Enforcement Act of 1994 (Public Law 103-322). This Act amended section 101(a)(15) of the Immigration and Nationality Act by adding a new category of nonimmigrants for aliens determined by the Attorney General to have critical and reliable information concerning a criminal organization or enterprise. The program, as originally enacted, was to terminate on September 12, 1999. The program was extended for an additional two years by Public Law 106-104 on November 13, 1999 and was made permanent by Public Law 107-45 on October 1, 2001.

Were Comments Solicited in the Department's Interim Rule?

The Department's interim rule (61 FR 1837) solicited comments from the public to be received by March 25, 1996. No comments were received.

Final Rule

Since no change is made to the interim regulation, the Department does not believe it necessary to reprint the regulations in this final rule.

PART 41—[AMENDED]

1. The authority citation for part 41 continues to read as follows:

Authority: 8 U.S.C. 1104; Pub. L. 105-277, 112 Stat. 2681-795 through 2681-801.

2. Accordingly, the Department adopts as final the interim rule at 61 FR 1837, as published in the Federal Register on January 24, 1996.

Dated: October 21, 2002.
George C. Lannon,
Acting Assistant Secretary for Consular Affairs, Department of State.

[FR Doc. 02-27887 Filed 11-1-02; 8:45 am]

BILLING CODE 4710-06-P